DEPARTMENT OF JUSTICE

Notice of Lodging of Proposed Consent Decree Under the Clean Air Act and The Federal Debt Collection and Procedures Act

On July 28, 2022, the Department of Justice lodged a proposed consent decree with the United States District Court for the Western District of Arkansas in the lawsuit entitled United States v. Thunder Diesel & Performance Co., et al., Civil Action No. 3:22-cv-03042.

The United States filed this lawsuit under the Clean Air Act. The United States' complaint names Thunder Diesel & Performance Co., Red Deer Exhaust, Inc. (d/b/a Flo~Pro), and Schumacher Estates LTD as defendants. The complaint seeks injunctive relief and civil penalties for violations of the regulations that govern the manufacture and sale of aftermarket automobile parts that bypass or defeat emission controls on diesel trucks, which were manufactured and sold by Flo~Pro to retailers and sold by Thunder Diesel in Mountain Home, Arkansas to consumers. The complaint also seeks recovery of fraudulent financial transfers made by Thunder Diesel to Schumacher Estates LTD. The consent decree requires the defendants to perform injunctive relief and pay a $1.6 million civil penalty.

The publication of this notice opens a period for public comment on the proposed consent decree. Comments should be addressed to the Assistant Attorney General, Environment and Natural Resources Division, and should refer to United States v. Thunder Diesel & Performance Co., et al., D.J. Ref. No. 90-5-2-1-12234. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $13.25 (25 cents per page reproduction cost) payable to the United States Treasury.

Patricia McKenna,
Assistant Section Chief, Environmental Enforcement Section, Environment and Natural Resources Division.

[FR Doc. 2022-16880 Filed 8-5-22; 8:45 am]

BILLING CODE P